DEPARTMENT OF AGRICULTURE

Office of the Secretary

Notice of Request for Extension and Revision of a Currently Approved Information Collection

AGENCY: National Appeals Division, U.S. Department of Agriculture.

ACTION: Notice and request for comments.

SUMMARY: In accordance with the Paperwork Reduction Action of 1995 (44 U.S.C. Chapter 35), this notice announces the U.S. Department of Agriculture, National Appeals Division's request for an extension to a currently approved information collection for Customer Service Survey.

DATES: Comments on this notice must be received by April 15, 2013 to be assured of consideration.

Additional information or comments: Contact Dr. Angela Parham, U.S. Department of Agriculture, National Appeals Division, 3101 Park Center Drive, Suite 1100, Alexandria, Virginia, 22302-1500, 703.305.2588.

SUPPLEMENTARY INFORMATION: Title: National Appeals Division Customer Service Survey.

OMB Number: 0503-0007.

Expiration Date of Approval: September 30, 2013.

Type of Request: Extension and Revision of a currently approved information collection.

Abstract: Executive Order 12862, requires Federal Agencies to identify the customers who are, or should be served by the Agency and survey those customers to determine the kind and quality of services they want and level of satisfaction with existing services. Therefore, NAD proposes to extend its currently approved information collection survey.

Estimate of Burden: Public reporting burden for this collection of information is estimated to average .17 hours per response.

Respondents: Appellants, producers, and other USDA agencies.

Estimated Number of Respondents: 1600.

Estimated Number of Responses per Respondent: One (1).

Estimated Total Annual Burden on Respondents: 272.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Dr. Angela Parham, U.S. Department of Agriculture, National Appeals Division, 3101 Park Center Drive, Suite 1100, Alexandria, Virginia 22302-1500.

All comments received will be available for public inspection during regular business hours at the same address.

All responses to this notice will be summarized and included in the request for OMB approval. All comments will become a matter of public record.

Roger Klurfeld,
Director, National Appeals Division.

[FR Doc. 2013-03421 Filed 2-13-13; 8:45 am]

BILLING CODE P